ENVIRONMENTAL PROTECTION AGENCY

[OPPT-2002-0306; FRL-7280-2]

The Association of American Pesticide Control Officials (AAPCO) State FIFRA Issues Research and Evaluation Group SFIREG; Notice of Public Meeting

AGENCY: Environmental Protection Agency (EPA).

ACTION: Notice.

SUMMARY: The State Federal Insecticide, Fungicide and Rodenticide Act (FIFRA), Issues Research and Evaluation Group (SFIREG) will hold a 2-day meeting, beginning on December 9, 2002 and ending December 10, 2002. This notice announces the location and times for the meeting, and sets forth the tentative agenda topics.

DATES: The meeting will be held on Monday, December 9, 2002, from 8:30 a.m. until 4 p.m. (A CLOSED SESSION 4 p.m. until 5 p.m.) and Tuesday, December 10, 2002 from 8:30 a.m. until noon.

ADDRESSES: The meeting will be held at Doubletree Hotel, 300 Army Navy Drive, Arlington, VA

FOR FURTHER INFORMATION CONTACT: Georgia McDuffie, Field and External Affairs Division (7506c), Office of Pesticide Programs, Environmental Protection Agency, 1200 Pennsylvania Ave., NW., Washington, DC 20460-0001; telephone number: (703) 605-0195; fax number: (703) 308-1850; e-mail address: mcduffie.georgia@epa.gov. or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

This action is directed to the public in general, and may be of particular interest to “those persons who are or may be required to conduct testing of chemical substances under the Federal Food, Drug and Cosmetic Act (FFDCA), or the FIFRA”. Since other entities may also be interested, the Agency has not attempted to describe all the specific entities that may be affected by this action. If you have any questions regarding the applicability of this action to a particular entity, consult the person listed under FOR FURTHER INFORMATION CONTACT.

B. Can I Get Copies of this Document and Other Related Information?

1. Docket. EPA has established an official public docket for this action under docket ID number OPP-2002-0306. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA dockets. You may use EPA dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda:

1. Committee Business Issues.

2. Regional Reports & Introduction of Issue Papers/Action Items.

3. Comments to the Committee/Open Discussion with EPA Senior Managers (To be determined).

4. Worker Protection Standard (WPS) Program Element Review Update.

5. Non-English/Multiple Language Labels.

6. Tribal Pesticide Program Council (TPPC)/Section 18s & other Tribal Issues.

7. Update on Current OPP & OECA Activities.

8. SFIREG Issue Paper Status Report.

9. Closed Session.

10. Pesticide Regulatory Education Program (PREP) Briefing/Issues.

11. Soybean Rust Pest/Section 18s Requests.

12. Status (SLA) Label Improvement Project Proposals i.e. Mosquito Products/West Nile virus Issues

13. States Label Issue Tracking System (SLITS) Update

14. Certification Training Assessment Group (CTAG) Update & Discussion

15. Issue Papers/Past & Present

List of Subjects

Environmental protection, Pesticide and pests.

Dated: November 6, 2002.
Jay Ellenberger,
Associate Director, Field and External Affairs Division, Office of Pesticide Programs.

[FR Doc. 02-29171 Filed 11-19-02; 8:45 a.m.]

BILLING CODE 6560-50-S